DEPARTMENT OF THE TREASURY

Office of Thrift Supervision

[AC-25: OTS Nos. 06789]

Elk County Savings and Loan Association, Ridgway, PA; Approval of Conversion Application

Notice is hereby given that on August 13, 2008, the Office of Thrift Supervision approved the application of Elk County Savings and Loan Association, Ridgway, Pennsylvania, to convert to the stock form of organization. Copies of the application are available for inspection by appointment (phone number: (202) 906-5922 or e-mail: Public.Info@OTS.Treas.gov) at the Public Reading Room, 1700 G Street, NW., Washington, DC 20552, and the OTS Northeast Regional Office, Harborside Financial Center, Plaza Five, Suite 1600, Jersey City, NJ 07311.

By the Office of Thrift Supervision.
Dated: August 14, 2008.
Sandra E. Evans,
Federal Register Liaison.

[FR Doc. E8-19226 Filed 8-20-08; 8:45 am]

BILLING CODE 6720-01-M